DEPARTMENT OF TRANSPORTATION

Federal Railroad Administration

[Docket Number FRA-2013-0082]

Notice of Application for Approval of Discontinuance or Modification of a Railroad Signal System

In accordance with Part 235 of Title 49 Code of Federal Regulations (CFR) and 49 U.S.C. 20502(a), this document provides the public notice that by a document dated July 16, 2013, the Long Island Rail Road (LIRR) and the New York & Atlantic Railway (NYA) jointly petitioned the Federal Railroad Administration (FRA) seeking approval for the discontinuance or modification of a signal system. FRA assigned the petition Docket Number FRA-2013-0082.

Applicants:

Long Island Rail Road, Mr. Kevin Tomlinson, Chief Engineer, 93-59 183rd Street, Hollis, NY 11428;

New York & Atlantic Railway, Mr. Paul Victor, President, 68-1 Otto Road, Glendale, NY 11386.

LIRR and NYA jointly seek approval of the proposed discontinuance of the automatic block signal (ABS) system on Main Line #1 and #2, from Milepost (MP) 1.2 Bliss to MP 7.3 Jay Interlocking on LIRR's Montauk Branch. Signals S14,S18, S21, S24, S30, S31, S36, S39, S45, S51, S52, S59, S62, S67, S72, and S73 will be removed, as well as the pipe-connected center-lock crossover equipment on crossovers at MP 2.9, 4.2, 4.4, and 5.0. Switches will remain in service. Highway-rail grade crossings in the application area will have their warning distances revised to “island only,” with the exception of 88th Street, which will have its warning time shortened. The maximum authorized speed will be “restricted speed,” not to exceed 15 mph.

The reason given for the proposed changes is that the ABS system is no longer needed for freight switching operations. There are no through freight operations. Passenger service has been discontinued on the line.

A copy of the petition, as well as any written communications concerning the petition, is available for review online at www.regulations.gov and in person at the Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 20, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-18826 Filed 8-5-13; 8:45 am]

BILLING CODE 4910-06-P